INTERNATIONAL TRADE COMMISSION

[MISC-050]

Request for Public Input on Presentation of Harmonized Tariff Schedule of the United States

AGENCY: United States International Trade Commission.

ACTION: Request for comments.

SUMMARY: The United States International Trade Commission invites public input on specific ways in which it could improve its presentation of the Harmonized Tariff Schedule of the United States (HTS).

DATES: To be assured of consideration, comments must be submitted by 5:15 p.m. on or before February 7, 2025.

ADDRESSES: All Commission offices are in the United States International Trade Commission Building, 500 E Street SW, Washington, DC. You may submit comments identified by docket number MISC-050, via the Commission's Electronic Document Information System (EDIS, https://edis.usitc.gov). All submissions should be addressed to the Secretary and must conform to the provisions of section 201.8 of the Commission's Rules of Practice and Procedure (19 CFR 201.8). Section 201.8 and the Commission's Handbook on Filing Procedures (https://www.usitc.gov/documents/handbook_on_filing_procedures.pdf) require that interested parties file documents electronically on or before the filing deadline. Persons with questions regarding filing should contact the Secretary at EDIS3Help@usitc.gov.

SUPPLEMENTARY INFORMATION: The U.S. International Trade Commission (Commission or USITC) is an independent and nonpartisan federal agency with specific responsibilities in adjudicating and enforcing certain U.S. trade laws, providing relevant and timely analyses to the President and Congress on trade issues, and maintaining the Harmonized Tariff Schedule of the United States (HTS).

Subtitle B of Title I of the Omnibus Trade and Competitiveness Act of 1988 (1988 Act) (19 U.S.C. 3001 et seq.) requires the Commission to compile and publish the HTS, at appropriate intervals, and also requires the Commission to keep the HTS under continuous review. Section 1207(b) of the 1988 Act specifies the types of information that the Commission must include in the HTS that it compiles and publishes. It provides that the publications described in section 1207(a) shall contain, in whatever format—

(1) the then current Harmonized Tariff Schedule;

(2) statistical annotations and related statistical information formulated under [19 U.S.C 1484(f)]; and

(3) such other matters as the Commission considers to be necessary or appropriate to carry out the purposes enumerated in the Preamble to the Convention.

In 2015, the Commission deployed a document-oriented database application to fulfill its statutory mission of maintaining the HTS. This application is accessible to the public at https://hts.usitc.gov. The goal was to ensure accuracy and reliability through internal controls and process consistency.

Pursuant to its strategic objective to manage and leverage data as an asset, the Commission is currently considering ways to improve or replace the existing application and the manner in which the Commission provides HTS and related tariff information. To this end, the Commission is seeking input from the public on user experience of the HTS and related tariff information. Namely, we are looking for comments on the following topics:

—Your ability to navigate between parts of the HTS to find the information you need.

—Your ability to use HTS information for your needs.

—Your ability to compare changes in the HTS.

—Your ability to find and access HTS information.

Written submissions: To be assured of consideration by the Commission, written submissions related to the Commission's request for public input should be submitted at the earliest practical date and should be received not later than 5:15 p.m., February 7, 2025. All written submissions must conform to the provisions of section 201.8 of the Commission's Rules of Practice and Procedure (19 CFR 201.8), as temporarily amended by 85 FR 15798 (March 19, 2020). Under that rule waiver, the Office of the Secretary will accept only electronic filings at this time. Filings must be made through the Commission's Electronic Document Information System (EDIS, https://edis.usitc.gov). No in-person, paper-based filings or paper copies of any electronic filings will be accepted until further notice. Persons with questions regarding electronic filing should contact the Office of the Secretary, Docket Services Division (202-205-1802), or consult the Commission's Handbook on Filing Procedures.

Confidential business information: Do not submit confidential business information (CBI) or otherwise sensitive or protected information.

By order of the Commission.
Issued: January 2, 2025.
Lisa Barton,
Secretary to the Commission.

[FR Doc. 2025-00157 Filed 1-7-25; 8:45 am]

BILLING CODE 7020-02-P